FEDERAL COMMUNICATIONS COMMISSION

Notice of Public Information Collection(s) Being Reviewed by the Federal Communications Commission, Comments Requested

October 20, 2000.

SUMMARY: The Federal Communications Commission, as part of its continuing effort to reduce paperwork burden invites the general public and other Federal agencies to take this opportunity to comment on the following information collection, as required by the Paperwork Reduction Act of 1995, Public Law 104-13. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written comments should be submitted on or before December 26, 2000. If you anticipate that you will be submitting comments, but find it difficult to do so within the period of time allowed by this notice, you should advise the contact listed below as soon as possible.

ADDRESSES: Direct all comments to Les Smith, Federal Communications Commissions, 445 12th Street, SW, Room 1-A804, Washington, DC 20554 or via the Internet to lesmith@fcc.gov.

FOR FURTHER INFORMATION CONTACT: For additional information or copies of the information collections contact Les Smith at (202) 418-0217 or via the Internet at lesmith@fcc.gov.

SUPPLEMENTARY INFORMATION: OMB Approval No.: 3060-0405.

Title: Application for Authority to Construct or Make Changes in an FM Translator or FM Booster Station.

Form No.: FCC 349.

Type of Review: Extension of currently approved collection.

Respondents: Businesses or other for-profit, Not-for-profit institutions.

Number of Respondents: 1,050.

Estimated Hours Per Response: 5-19 hours depending on application type (1-3 hours applicant burden; 4-17 hours contract costs).

Frequency of Response: On occasion.

Cost to Respondents: $2,689,500.

Estimated Total Annual Burden Hours: 2750.

Needs and Uses: FCC 349 is used to apply for authority to construct a new FM translator or FM booster broadcast station, or to make changes in the existing facilities of such stations. This collection also includes the third party disclosure requirement of Section 73.3580. This section requires local public notice in a newspaper of general circulation of the filing of all applications for new or major change in facilities. This notice must be completed within 30 days of the tendering of the application. This notice must be published at least twice a week for two consecutive weeks in a three-week period. A copy of this notice must be placed in the public inspection file along with the application. In addition, all mutually exclusive NCE proposals for the reserved band currently on file with the Commission will be required to supplement their applications with portions of the revised FCC 349 necessary to make a selection under the new point system. The Commission will issue a public notice announcing the procedures to be used in this process. The data are used by FCC staff to ensure that the applicant meets basic statutory requirements and will not cause interference to other licensed broadcast services. In the case of mutually exclusive qualified applicants, the information will be used to determine which proposal would best serve the public interest.

OMB Approval No.: 3060-0034.

Title: Application for Construction Permit for Reserved Channel Noncommercial Educational Broadcast Station.

Form No.: FCC 340.

Type of Review: Extension of currently approved collection.

Respondents: Not-for-profit institutions.

Number of Respondents: 1970.

Estimated Hours Per Response: 15-76 hours depending on application type (2-4 hours applicant burden; 13-68 hours contract costs).

Frequency of Response: On occasion.

Cost to Respondents: $8,200,645.

Estimated Total Annual Burden Hours: 4370.

Needs and Uses: FCC 340 is used to apply for authority to construct a new noncommercial educational (NCE) FM, TV and DTV broadcast station, or to make changes in the existing facilities of such a station. The FCC 340 is to be used for channels that are reserved exclusively for NCE use. This collection also includes the third party disclosure requirement of Section 73.3580 which requires local public notice in a newspaper of general circulation of the filing of all applications for new or major changes in facilities. In addition, all mutually exclusive NCE proposals for the reserved band currently on file with the Commission will be required to supplement their applications with portions of the revised FCC 340 necessary to make a selection under the new point system. The Commission will issue a public notice announcing the procedures to be used in this process. The data are used by FCC staff to determine whether the applicant meets basic statutory requirements to become or remain a Commission licensee and to ensure that the public interest would be served by grant of the application. In the case of mutually exclusive qualified applicants, the information will be used to determine which proposal would best serve the public interest.

OMB Approval No.: 3060-0948.

Title: MM Docket No. 95-31—Noncommercial Rules.

Form No.: None.

Type of Review: Extension of currently approved collection.

Respondents: Not-for-profit institutions.

Number of Respondents: 435.

Estimated Hours Per Response: 0.25-3 hours (depending on application type (0.25-2 hours applicant burden; 1-2 hours contract costs).

Frequency of Response: On occasion.

Cost to Respondents: $33,750.

Estimated Total Annual Burden Hours: 485.

Needs and Uses: On April 4, 2000, the Commission adopted a Report and Order in MM Docket No. 95-31 in the Matter of Reexamination of the Comparative Standards for Noncommercial Educational Applicants. This Report and Order adopted new procedures to select among competing applicants for noncommercial educational (NCE) broadcast channels. The Commission will use a point system to select among mutually exclusive applicants on reserved channels, to streamline the current selection process and make it faster and simpler for applicants and for the Commission. The Commission will use filing windows for new and major changes to NCE stations. In addition, the following rule sections were revised that include new information collections:

Section 73.202 was revised to provide that entities that would be eligible to operate a noncommercial educational broadcast station can request that a nonreserved FM channel be allotted as reserved only for NCE broadcasting. This request must include a demonstration as specified in (a)(1)(i) and (ii) of this rule section.

Section 73.3527 was revised to include that documentation of any points claimed in an application for a NCE broadcast station in the reserved band must be kept in the public inspection file.

Section 73.3572 was revised to require an application for a NCE broadcast station on a reserved channel to submit to the FCC's public reference room supporting documentation of the points claimed in its application form.

The demonstration provided with the request for an allotment is used by FCC staff to determine whether there is a greater need for a noncommercial channel versus a commercial channel. The availability of supporting documentation concerning points claimed will enable any involved party to verify and/or dispute that claim and will enable the Commission to do random audits of the applicant point certifications.

OMB Approval No.: 3060-0897.

Title: MDS and ITFS Two-Way Transmissions.

Form No.: None.

Type of Review: Extension of currently approved collection.

Respondents: Businesses or other for-profit, not-for-profit institutions.

Number of Respondents: 130,888.

Estimated Hours Per Response: 0.083-41 hours (depending on application type (0.166-40 hours applicant burden; 0.166-5.25 hours contract costs).

Frequency of Response: On occasion.

Cost to Respondents: $5,431,032.

Estimated Total Annual Burden Hours: 223,355.

Needs and Uses: This collection includes rules that collectively form the MDS and ITFS two-way services. The rules for two-way transmissions for MDS and ITFS will allow two-way licensing and provide greater flexibility in the use of the allotted spectrum to licensees. The Commission will use this information to ensure that MDS and ITFS applicants, conditional licensees and licensees have considered properly under the Commission's rules the potential for harmful interference from their facilities.

Federal Communications Commission.
Magalie Roman Salas,
Secretary.

[FR Doc. 00-27674 Filed 10-26-00; 8:45 am]

BILLING CODE 6712-01-U